DEPARTMENT OF HOUSING AND URBAN DEVELOPMENT

[Docket No. FR-4564-N-03]

Notice of Proposed Information Collection: Lead Hazard Control Grant Program Data Collection—Progress Reporting

AGENCY: Office of Lead Hazard Control.

ACTION: Notice.

SUMMARY: The revised information collection requirement described below will be submitted to the Office of Management and Budget (OMB) for review, as required by the Paperwork Reduction Act. The Department is soliciting public comments on the subject proposal.

DATES: Comments Due Date: August 14, 2000.

ADDRESSES: Interested persons are invited to submit comments regarding this proposal. Comments should refer to the proposal by name and/or OMB Control Number and should be sent to: Gail Ward, Reports Liaison Officer, Department of Housing and Urban Development, 451 7th Street, SW, Room P-3206, Washington, DC 20410.

FOR FURTHER INFORMATION CONTACT: Matthew Ammon at (202) 755-1785, ext. 158 (this is not a toll-free number) for copies of the proposed forms and other available documents.

SUPPLEMENTARY INFORMATION: The Department is submitting the revised information collection to OMB for review, as required by the Paperwork Reduction Act of 1995 (44 U.S.C. Chapter 35, as amended).

This Notice is soliciting comments from members of the public and affected agencies concerning the proposed collection of information to: (1) Evaluate whether the revised collection of information is necessary for the proper performance of the functions of the agency, including whether the information will have practical utility; (2) Evaluate the accuracy of the agency's estimate of the burden of the revised collection of information; (3) Enhance the quality, utility and clarity of the information to be collected; and (4) Minimize the burden of the collection of information on those who are to responded; including through the use of appropriate automated collection techniques or other forms of information technology, e.g., permitting electronic submission of responses.

This Notice also listed the following information:

Title of Proposal: Lead Hazard Control Grant Program Data Collection—Progress Reporting.

OMB Control Number: 2539-0008.

Need for the Information and Proposed Use: This data collection is disigned to provide timely information to HUD regarding the implementation progress of the grantees on carrying out the Lead-Based Paint Hazard Control Grant Program. The information collection will also be used to provide Congress with statuts reports as required by Residential Lead-Based Paint Hazard Reduction Act (Title X of the Housing and Community Development Act of 1992).

Agency Form Numbers: HUD-96006.

Members of Affected Public: State and local governments.

Total Burden Estimate (first year):

Task | Number of respondends | Frequency of response | Hours per response | Burden hours
| 130 | 4 | 12 | 6,240

Total Estimated Burden Hours: 6,240.

Status of the Proposed Information Collection: Revision.

ADDITIONAL INFORMATION: The obligation to respond to this information collection is mandatory. Due to the improvements and simplifcation made to the reporting process, we expect the actual total burden hours to be substantially less than the estimated total burden hours.

Authority: The Paperwork Reduction Act of 1995, 44 U.S.C. Chapter 35, as amended.

Dated: June 7, 2000.
David E. Jacobs,
Director, Office of Lead Hazard Control.

[FR Doc. 00-14937 Filed 6-13-00; 8:45 am]

BILLING CODE 4210-01-M